DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS mineral proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/Operator | Location | Date
Newfield Exploration Company, Initial Exploration Plan, SEA No. N-7852 | High Island, Block A-353, Lease OCS-G 24425, located 111 miles from the nearest Louisiana shoreline | 10/29/03
Arena Offshore, LLC, Initial Exploration Plan, SEA No. N-7940 | High Island, Block A-366, Lease OCS-G 24429, located 100 miles from the nearest Texas shoreline | 11/24/03
Dominion Exploration & Production, Inc., Initial Exploration Plan, SEA No. N-7928 | DeSoto Canyon, Block 618, located 90 miles from the nearest Louisiana shoreline | 11/25/03
CGG Americas, Inc., Geological & Geophysical Exploration for Mineral Resources, SEA No. L03-62 | Located in the central Gulf of Mexico south of Mobile, Alabama | 10/01/03
Kerr-McGee Oil & Gas Corporation, Structure Removal Activity, SEA No. ES/SR 03-188 | Main Pass, Block 107, Lease OCS-G 07804, located 35 miles from the nearest Louisiana shoreline | 10/06/03
Veritas DGC Corporation, Geological & Geophysical Exploration Plan, SEA No. T03-19 | Located in the western Gulf of Mexico south of Galveston, Texas | 10/09/03
Fugro Geoteam, Geological & Geophysical Exploration Plan, SEA No. T03-20 | Located in the central and western Gulf of Mexico south of Galveston, Texas, and Grand Isle, Louisiana | 10/09/03
BP Exploration & Production, Inc., Geological and Geophysical Exploration Plan, SEA No. L03-59 | Located in the central Gulf of Mexico south of Fourchon, Louisiana | 10/14/03
William G. Helis Company, Structure Removal Activity, SEA No. ES/SR 03-189 | South Timbalier, Block 198, Lease OCS-G 07769, located 45 miles from the nearest Louisiana shoreline | 10/21/03
The Louisiana Land and Exploration Company, Structure Removal Activity, SEA No. ES/SR 03-196 | West Cameron (South), Block 619, Lease OCS-G 02233, located 110 miles from the nearest Louisiana shoreline | 10/29/03
Merit Energy Company, Structure Removal Activity, SEA No. ES/SR 03-197 | Brazos Area, Block 517, Lease OCS-G 11279, located 10 miles from the nearest Texas shoreline | 11/18/03
BP Exploration and Production Company, Structure Removal Activity, SEA No. ER/SR 03-199 and 03-200 | Eugene Island (South Addition), Block 322, Lease OCS-G 02113, located 58 miles southwest from the nearest Terrebonne Parish, Louisiana shoreline | 11/13/03
El Paso Production GOM, Inc., Structure Removal Activity, SEA No. ES/SR 03-201 | East Cameron, Block 36, Lease OCS-G 17835, located 5 miles from the nearest Louisiana shoreline | 11/13/03
C & C Technologies, Inc., Geological and Geophysical Exploration Plan, SEA No. L03-68 | Located in the western Gulf of Mexico south of Fourchon, Louisiana | 11/13/03
Union Oil Company of California, Structure Removal Activity, SEA Nos. ES/SR 03-190, 03-191, 03-192, 03-193, 03-194 and 03-195 | West Cameron, Block 278; High Island, BlockA9; Vermilion, Block 27 and Vermilion (South Addition), Blocks 330 and 262; Leases OCS-G 19711, 09093, 04208, 04261 and 02081 respectively, located 4.5 to 107 miles from the nearest Louisiana shoreline and 35 to 110 miles from the nearest Texas shoreline | 11/19/03
Marathon Oil Company, Structure Removal Activity, SEA No. ES/SR 03-161 | South Pass, Block 89, Lease OCS-G 01618, located 14 miles from the nearest Louisiana shoreline | 12/11/03
BP Exploration & Production Company, Structure Removal Activity, SEA No. ES/SR 03-202 | South Marsh Island (South Addition), Block 205, Lease OCS-G 05475, located 95 miles from the nearest Louisiana shoreline | 12/02/03
WesternGeco for Multi-Client, Geological & Geophysical Exploration fo Mineral Resources, SEA No. L03-69 | Located in the central Gulf of Mexico east of Galveston, Texas | 12/02/03
Fugro Geoservices, Inc. for Kerr-McGee Corporation, Geological & Geophysical Exploration for Mineral Resources, SEA No. L03-70 | Located in the central Gulf of Mexico south of Patterson, Louisiana | 12/04/03
GX Technology Corporation for Lico International, Inc., Geological & Geophysical Exploration for Mineral Resources, SEA No. L03-71 | Located in the central and western Gulf of Mexico east of Galveston, Texas | 12/12/03
C & C Technologies, Inc. for Chevron Texaco, Geological & Geophysical Exploration for Mineral Resources, SEA No. L03-72 | Located in the central Gulf of Mexico south of Fourchon, Louisiana | 12/15/03
WesternGeco for Chevron Texaco, Geological & Geophysical Exploration for Mineral Resources, SEA No. L03-73 | Located in the central Gulf of Mexico east of Galveston, Tex | 12/18/03
EOG Resources, Inc., Structure Removal Activity, SEA No. ES/SR 03-001S | Ewing Bank, Block 827, Lease OCS-G 18165, located 62 miles south of the nearest Louisiana shoreline | 12/16/03
Houston Exploration Company, Structure Removal Activity, SEA No. ES/SR 03-203 | Vermillion Area, Block 203, Lease OCS-G 12871, located 55 miles from the nearest Louisiana shoreline | 12/23/03
Houston Exploration Company, Structure Removal Activity, SEA No. ES/SR 03-204 | Galveston Area, Block 144, Lease OCS-G 17119, located 10 miles from the nearest Texas shoreline | 12/23/03
Anadarko E & P Company, LP, Structure Removal Activity, SEA Nos. ES/SR 03-205 and 03-206 | South Marsh Island (North Addition), Block 282, Lease OCS-G 12904, located 27 miles from the nearest Louisiana shoreline; Ship Shoal, Block 128, Lease OCS-G 08707, located 37 miles from the nearest Louisiana shoreline | 12/22/03
J. M. Huber Corion, Structure Removal Activity, SEA Nos. 03-207, 03-208 and 03-209 | South Timbalier, Block 28, Lease OCS-G 01362, located 7 miles from the nearest Louisiana shoreline | 12/22/03
WesternGego, Geological Geophysical Exploration for Mineral Resources, SEA No. L03-74 | Located in the central Gulf of Mexico east of Galveston, Texas | 12/23/03

Persons interested in reviewing environmental documents for the proposals listed above or obtaining information about SEAs and FONSIs prepared for activities on the Gulf of Mexico OCS are encouraged to contact MMS at the address or telephone listed in the FOR FURTHER INFORMATION CONTACT section.

Dated: January 12, 2004.
Chris C. Oynes,
Regional Director, Gulf of Mexico OCS Region.

[FR Doc. 04-7767 Filed 4-5-04; 8:45 am]

BILLING CODE 4310-MR-P